DEPARTMENT OF ENERGY

Federal Energy Regulatory Commission

Notice Soliciting Comments, Final Terms and Conditions, Recommendations, and Prescriptions

October 1, 2001.

Take notice that the following hydroelectric application and applicant prepared environmental assessment has been filed with the Commission and is available for public inspection:

a. Type of Application: New Major License.

b. Project No.: P-309-036.

c. Date filed: October 11, 2000.

d. Applicant: Reliant Energy Mid-Atlantic Power Holdings, LLC.

e. Name of Project: Piney Hydroelectric Project.

f. Location: On the Clarion River in Clarion County, Pennsylvania. The project would not utilize any federal lands or facilities.

g. Filed Pursuant to: Federal Power Act, 16 U.S.C. 791(a)—825(r).

h. Applicant Contact: Mr. Thomas Teitt; Reliant Energy Mid-Atlantic Power Holdings, LLC; 1001 Broad Street; Johnstown, Pennsylvania 15907-1050; (814) 533-8028

i. FERC Contact: John Costello, E-mail address, john.costello@ferc.fed.us, or telephone (202) 219-2914.

j. Deadline for filing comments, final terms and conditions, recommendations, and prescriptions: 60 days from the issuance date of this notice.

All documents (original and eight copies) should be filed with: David P. Boergers, Secretary, Federal Energy Regulatory Commission, 888 First Street, NE., Washington, DC 20426

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Protests, comments on filings, comments on environmental assessments and environmental impact statements, and reply comments may be filed electronically via the internet in lieu of paper. See 18 CFR 385.2001(a)(1)(iii) and the instructions on the Commission's web site (http://www.ferc.gov) under the “e-filing” link.

k. Status of environmental analysis: This application has been accepted for filing and is ready for environmental analysis at this time.

l. Description of the Project: The project consists of the following: (1) the 427-foot-long and 139-foot-high concrete arch dam with crest elevation at 1,075 feet msl, an 84-foot-long left non-overflow wall, and a 200-foot-long right non overflow wall; (2) an 800-acre surface area reservoir; (3) an 84-foot-wide integral intake; (4) three 230-foot-long, 14-foot-diameter penstocks; (5) a powerhouse with 3 generating units totaling 28,300 kilowatts; (6) a 250-foot-long tailrace; (7) 700-foot-long and 900-foot-long transmission lines; and (8) appurtenant facilities.

m. Locations of the application: A copy of the application is available for inspection and reproduction at the Commission's Public Reference Room, located at 888 First Street, NE, Room 2A, Washington, DC 20246, or by calling (202) 208-1371. The application may be viewed on the web at http://www.ferc.gov (call (202) 208-2222 for assistance). A copy is also available for inspection and reproduction at the Johnstown, Pennsylvania, address in item h. above.

Filing and Service of Responsive Documents—The application is ready for environmental analysis at this time, and the Commission is requesting comments, reply comments, recommendations, terms and conditions, and prescriptions.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, N.E., Washington, D.C. 20426. An additional copy must be sent to Director, Office of Energy Projects, Division of Environmental and Engineering Review, Federal Energy Regulatory Commission, at the above address. Each filing must be accompanied by proof of service on all persons listed on the service list prepared by the Commission in this proceeding, in accordance with 18 CFR 4.34(b), and 385.2010.

Linwood A. Watson, Jr.,
Acting Secretary.

[FR Doc. 01-24972 Filed 10-4-01; 8:45 am]

BILLING CODE 6717-01-P